DEPARTMENT OF ENERGY

[Case No. CAC-050, EERE-2017-BT-WAV-0039]

Notice of Petition for Waiver of Johnson Controls, Inc. From the Department of Energy Central Air Conditioners and Heat Pumps Test Procedure, and Notice of Grant of Interim Waiver

AGENCY: Office of Energy Efficiency and Renewable Energy, Department of Energy.

ACTION: Notice of re-opening of public comment period.

SUMMARY: The U.S. Department of Energy (DOE) published, on August 13, 2018, a notice of petition for waiver of Johnson Controls, Inc. (JCI) and grant of an interim waiver from the DOE's Central Air Conditioners and Heat Pumps Test Procedure seeking comments, data, and information concerning JCI's amended petition and its suggested alternate test procedure. The comment period for the JCI's notice of petition for waiver, grant of an interim waiver, and request for comments ends on September 12, 2018. Through this notice, DOE announces that the period for submitting comments is re-opened until September 28, 2018.

DATES: The comment period for the JCI's notice of petition for waiver, grant of an interim waiver, and request for comments published in the Federal Register on August 13, 2018 (83 FR 40011) is re-opened until September 28, 2018. Written comments and information are requested on or before September 28, 2018.

ADDRESSES: You may submit comments, identified by case number “CAC-050” and Docket number “EERE-2017-BT-WAV-0039,” by any of the following methods:

• Federal eRulemaking Portal: http://www.regulations.gov. Follow the instructions for submitting comments.

• Email: JCI2017WAV0042@ee.doe.gov. Include the case number CAC-050 in the subject line of the message. Submit electronic comments in WordPerfect, Microsoft Word, PDF, or ASCII file format, and avoid the use of special characters or any form of encryption.

• Postal Mail: U.S. Department of Energy, Building Technologies Office, Mailstop EE-5B, Petition for Waiver Case No CAC-050, 1000 Independence Avenue SW, Washington, DC 20585-0121. If possible, please submit all items on a compact disc (CD), in which case it is not necessary to include printed copies.

• Hand Delivery/Courier: Appliance and Equipment Standards Program, U.S. Department of Energy, Building Technologies Office, 950 L'Enfant Plaza SW, 6th Floor, Washington, DC 20024. Telephone: (202) 287-1445. If possible, please submit all items on a CD, in which case it is not necessary to include printed copies.

Docket: The docket, which includes Federal Register notices, comments, and other supporting documents/materials, is available for review at http://www.regulations.gov. All documents in the docket are listed in the http://www.regulations.gov index. However, some documents listed in the index, such as those containing information that is exempt from public disclosure, may not be publicly available.

The docket web page can be found at https://www.regulations.gov/docket?D=EERE-2017-BT-WAV-0039. The docket web page will contain simple instruction on how to access all documents, including public comments, in the docket.

FOR FURTHER INFORMATION CONTACT: Mr. Pete Cochran, U.S. Department of Energy, Office of the General Counsel, Mail Stop GC-33, Forrestal Building, 1000 Independence Avenue SW, Washington, DC 20585-0103. Telephone: (202) 586-9496. Email: Peter.Cochran@hq.doe.gov.

SUPPLEMENTARY INFORMATION: On August 13, 2018, the U.S. Department of Energy (DOE) published a notice of petition for waiver of Johnson Controls, Inc. (JCI) and grant of an interim waiver from the DOE's Central Air Conditioners and Heat Pumps Test Procedure (83 FR 40011). The document provided for submitting written comments and information by September 12, 2018. DOE has received requests from Goodman Manufacturing Company, L.P. and UTC-Carrier Corporation, dated September 11, 2018, to provide an additional 2 weeks to submit comments pertaining to the JCI's notice of petition for waiver, grant of an interim waiver, and request for comments. These requests can be found at https://www.regulations.gov/docket?D=EERE-2017-BT-WAV-0039.

A re-opening of the comment period would allow additional time to all interested parties to consider the issues presented in JCI's notice of petition for waiver, grant of an interim waiver and an alternative test procedure, gather any additional data and information, and submit comments to DOE. The JCI's notice of petition for waiver, grant of an interim waiver, and request for comments can be found at https://www.regulations.gov/document?D=EERE-2017-BT-WAV-0039-0012.

In view of the requests from Goodman Manufacturing Company, L.P. and UTC-Carrier Corporation, DOE has determined that re-opening the comment period for an additional 2 weeks is appropriate. Therefore, DOE is re-opening the comment period until September 28, 2018 to provide interested parties additional time to prepare and submit comments. Comments received between the original September 12, 2018, closing date and the new September 28, 2018, closing date are considered timely filed. Individuals who submitted comments during the original comment period do not need to re-submit comments.

Signed in Washington, DC, on September 11, 2018.
Annamaria Garcia,
Director of Weatherization and Intergovernmental Programs, Energy Efficiency and Renewable Energy.

[FR Doc. 2018-20136 Filed 9-14-18; 8:45 am]

BILLING CODE 6450-01-P